DEPARTMENT OF COMMERCE

National Oceanic and Atmospheric Administration

RIN 0648-XD180

Marine Mammals; File No. 18534

AGENCY: National Marine Fisheries Service (NMFS), National Oceanic and Atmospheric Administration (NOAA), Commerce.

ACTION: Notice; receipt of application.

SUMMARY: Notice is hereby given that the Alaska SeaLife Center (ASLC; Responsible Party, Tara Jones, Ph.D.) 301 Railway Avenue, P.O. Box 1329, Seward, AK 99664, has applied in due form for a permit to conduct research on captive Steller sea lions (Eumetopias jubatus) of the Eastern stock.

DATES: Written, telefaxed, or email comments must be received on or before April 28, 2014.

ADDRESSES: The application and related documents are available for review by selecting “Records Open for Public Comment” from the Features box on the Applications and Permits for Protected Species (APPS) home page, https://apps.nmfs.noaa.gov, and then selecting File No. 18534 from the list of available applications.

These documents are also available upon written request or by appointment in the following office:

Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include File No. 18534 in the subject line of the email comment.

Those individuals requesting a public hearing should submit a written request to the Chief, Permits and Conservation Division at the address listed above. The request should set forth the specific reasons why a hearing on this application would be appropriate.

FOR FURTHER INFORMATION CONTACT: Amy Sloan or Jennifer Skidmore, (301) 427-8401.

SUPPLEMENTARY INFORMATION: The subject permit is requested under the authority of the Marine Mammal Protection Act of 1972, as amended (MMPA; 16 U.S.C. 1361 et seq.), and the regulations governing the taking and importing of marine mammals (50 CFR part 216).

The ASLC requests a five-year permit to investigate reproductive physiology of captive adult Steller sea lions and survival, growth, and physiology of captive-bred offspring. The ASLC also proposes to deploy instruments to develop and validate methods for monitoring wild Steller sea lions. Research would be conducted on two adult males, up to six adult females, one pup and up to nine additional offspring (up to 18 research animals total), and would include the following activities: mass and morphometric measurements; ultrasound; sedation, and anesthesia; blood sampling and administration of Evan's blue dye and deuterium oxide; feces, urine, saliva, semen, and milk collection; video/audio recordings; swabs; radiographs; dietary supplements; blubber biopsy; and attachment and proximity to instrumentation. ASLC also requests authorization to transfer to and import from approved facilities up to six Steller sea lions from the Eastern Stock. ASLC requests up to four research-related mortalities over the course of the permit and one naturally caused mortality for each animal. No research would occur on wild populations or affect non- target species.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: March 21, 2014.
Perry F. Gayaldo,
Acting Deputy, Office of Protected Resources, National Marine Fisheries Service.

[FR Doc. 2014-06804 Filed 3-26-14; 8:45 am]

BILLING CODE 3510-22-P